DEPARTMENT OF STATE

[Public Notice: 11949]

U.S. Advisory Commission on Public Diplomacy: Notice of Meeting

The U.S. Advisory Commission on Public Diplomacy will hold an in-person public meeting from 12 until 1:15 p.m., Wednesday, January 25, 2023, at the Dirksen Senate Office Building in Washington, DC. In addition to previewing the Commission's 2022 Comprehensive Annual Report on Public Diplomacy and International Broadcasting, a panel of senior State Department public diplomacy officers will examine the challenges and opportunities facing U.S. government public diplomacy activities in 2023 and beyond.

This meeting is open to the public, including the media and members and staff of governmental and non-governmental organizations. The event will take place at the Dirksen Senate Office Building in Room SD-106, First Street and C Street NE, Washington, DC 20515, with an option for on-line participation. Attendees should plan to arrive for the meeting by 11:45 a.m. to allow for a prompt start. To register for the event, please email ACPD Program Assistant Kristy Zamary at ZamaryKK@state.gov.

To request reasonable accommodation, please email ACPD Program Assistant Kristy Zamary at ZamaryKK@state.gov. Please send any request for reasonable accommodation no later than January 4, 2023. Requests received after that date will be considered but might not be possible to fulfill.

Since 1948, the ACPD has been charged with appraising activities intended to understand, inform, and influence foreign publics and to increase the understanding of, and support for, these same activities. The ACPD conducts research that provides honest assessments of public diplomacy efforts, and disseminates findings through reports, white papers, and other publications. It also holds public symposiums that generate informed discussions on public diplomacy issues and events. The Commission reports to the President, Secretary of State, and Congress and is supported by the Office of the Under Secretary of State for Public Diplomacy and Public Affairs.

For more information on the U.S. Advisory Commission on Public Diplomacy, please visit https://www.state.gov/bureaus-offices/under-secretary-for-public-diplomacy-and-public-affairs/united-states-advisory-commission-on-public-diplomacy/, or contact Executive Director Vivian S. Walker at WalkerVS@state.gov or Senior Advisor Deneyse Kirkpatrick at kirkpatrickda2@state.gov.

Authority: 22 U.S.C. 2651a, 22 U.S.C. 1469, 5 U.S.C. Appendix, and 41 CFR 102-3.150.

Vivian S. Walker,
Executive Director, U.S. Advisory Commission on Public Diplomacy, Department of State.

[FR Doc. 2022-27771 Filed 12-21-22; 8:45 am]

BILLING CODE 4710-45-P